DEPARTMENT OF HOMELAND SECURITY

Coast Guard

33 CFR Part 117

[Docket No. USCG-2017-0517]

Drawbridge Operation Regulation; Thames River, New London, CT

AGENCY: Coast Guard, DHS.

ACTION: Notice of deviation from drawbridge regulation; modification.

SUMMARY: The Coast Guard has modified a temporary deviation from the operating schedule that governs the Amtrak Bridge across Thames River, mile 3.0, at New London, CT. This action is necessary to complete installation of an emergency generator. This modified deviation allows the bridge to require a two hour advance notice for openings during nighttime hours.

DATES: The modified deviation published on June 23, 2017 (82 FR 28552) is effective from August 1, 2017 through 12:01 a.m. on September 30, 2017. For the purposes of enforcement, actual notice will be used from 12:01 a.m. on July 31, 2017 until August 1, 2017.

ADDRESSES: The docket for this deviation, [USCG-2017-0517] is available at http://www.regulations.gov. Type the docket number in the “SEARCH” box and click “SEARCH”. Click on Open Docket Folder on the line associated with this deviation.

FOR FURTHER INFORMATION CONTACT: If you have questions on this temporary deviation, call or email James L. Rousseau, Bridge Management Specialist, First District Bridge Branch, U.S. Coast Guard; telephone 617-223-8619, email James.L.Rousseau2@uscg.mil.

SUPPLEMENTARY INFORMATION: On June 23, 2017, the Coast Guard published a temporary deviation entitled “Drawbridge Operation Regulation; Thames River, New London, CT” in the Federal Register (82 FR 28552). Under that temporary deviation, between July 31, 2017 and September 12, 2017, the draw of the Amtrak Bridge would require a two hour advance notice for openings during nighttime hours.

Amtrak, the owner of the bridge, requested a modification of the currently published deviation in order to facilitate installation of a lift span emergency generator. Due to delays in manufacturing Amtrak has requested that the temporary deviation be modified to allow the Amtrak Bridge to require a 2 hour advance notice between 9 p.m. and 7 a.m. from July 31, 2017 to September 30, 2017, while a crane barge is present next to the lift span. The presence of the crane barge reduces the horizontal clearance to 70 feet. Additionally, between July 31, 2017 and September 10, 2017, the lift span will be in the down position during daytime hours but will be able to open when requested.

The Amtrak Bridge across the Thames River, mile 3.0 at New London, Connecticut has a horizontal clearance of 150 feet and a vertical clearance of 29 feet at mean high water and 31 feet at mean low water in the closed position. The bridge has a vertical clearance of 75 feet in the intermediate raised position and 135 feet in the fully open position at mean high water. The existing drawbridge operating regulations are listed at 33 CFR 117.224. The waterway is transited by recreational traffic, commercial vessels, ferries, and military vessels. Vessels that can pass under the bridge without an opening may do so at all times. When the barge is located next to the lift span, the bridge will not be able to open immediately for emergencies. There is no alternate route for vessels unable to pass through the bridge when in the closed position.

The Coast Guard will also inform the users of the waterways through our Local and Broadcast Notices to Mariners of the change in operating schedule for the bridge so that vessel operators can arrange their transits to minimize any impact caused by this temporary deviation.

In accordance with 33 CFR 117.35(e), the drawbridge must return to its regular operating schedule immediately at the end of the effective period of this temporary deviation. This deviation from the operating regulations is authorized under 33 CFR 117.35.

Dated: July 26, 2017.
Christopher. J. Bisignano,
Supervisory Bridge Management Specialist, First Coast Guard District.

[FR Doc. 2017-16084 Filed 7-31-17; 8:45 am]

BILLING CODE 9110-04-P